DEPARTMENT OF AGRICULTURE

Animal and Plant Health Inspection Service

[Docket No. APHIS-2022-0010]

Privacy Act of 1974; System of Records

AGENCY: Animal and Plant Health Inspection Service, USDA.

ACTION: Rescindment of a system of records notice.

SUMMARY: The U.S. Department of Agriculture (USDA) is issuing a public notice of its intent to rescind an Animal and Plant Health Inspection Service (APHIS) Privacy Act system of records notice, Animal Damage Control Non-Federal Personnel Records, USDA/APHIS-7. This system of records notice is rescinded because it has been superseded by another system of records notice published by the Department.

DATES: The rescindment will become applicable by December 26, 2024.

ADDRESSES: You may submit comments by either of the following methods:

• Federal eRulemaking Portal: Go to https://www.regulations.gov. Enter APHIS-2022-0010 in the Search field. Select the Documents tab, then select the Comment button in the list of documents.

• Postal Mail/Commercial Delivery: Please send one copy of your comment to Docket No. APHIS-2022-0010, Regulatory Analysis and Development, PPD, APHIS, Station 2C-10.16, 4700 River Road, Unit 25, Riverdale, MD 20737-1238.

Supporting documents and any comments we receive on this docket may be viewed at http://www.regulations.gov or in our reading room, which is in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Kendra Cross, Deputy Director, Wildlife Operations, WS Operational Support Staff, 4700 River Road, Unit 87, Riverdale, MD 20737; (405) 479-3053; kendra.b.cross@usda.gov.

SUPPLEMENTARY INFORMATION: Pursuant to the provisions of the Privacy Act of 1974, as amended, 5 U.S.C. 552a, the U.S. Department of Agriculture's (USDA's) Animal and Plant Health Inspection Service (APHIS) is rescinding the system of records notice, Animal Damage Control Non-Federal Personnel Records, USDA/APHIS-7, and removing it from its inventory. This system was used to provide State supervisors a system for financial and manpower management of Animal Damage Control programs, record disbursement of funds, allow for preparation of various statistical reports, and maintain records related to employees involved in animal damage control.

The Department is rescinding this system of records because the records previously maintained in the system are now maintained within the system of records titled “Wildlife Services Information Management System, USDA/APHIS-9,” which serves as the official record of Wildlife Services' work in wildlife damage management activities related to agriculture, human health and safety, natural resources, and human property.

Rescinding the Animal Damage Control Non-Federal Personnel Records System will have no adverse impacts on individuals as the records are covered by and maintained under the Wildlife Services Information Management System, USDA/APHIS-9. This notice hereby rescinds the Animal Damage Control Non-Federal Personnel Records System of records notice as identified below.

SYSTEM NAME AND NUMBER:

Animal Damage Control Non-Federal Personnel Records System, USDA/APHIS-7.

HISTORY:

Animal Damage Control Non-Federal Personnel Records System, USDA/APHIS-7, was published in its entirety on February 27, 1987 (52 FR 6031-6038; Docket No. 86-408).

Done in Washington, DC, this 19th day of November 2024.
Michael Watson,
Administrator, Animal and Plant Health Inspection Service.

[FR Doc. 2024-27530 Filed 11-22-24; 8:45 am]

BILLING CODE 3410-34-P